DEPARTMENT OF THE INTERIOR

Office of the Special Trustee for American Indians

Notice and Request for Comments; Correction

AGENCY: Office of the Special Trustee for American Indians.

ACTION: Notice and request for comments; correction.

SUMMARY: In compliance with section 3506(c)(2)(A) of the Paperwork Reduction Act of 1995, the Office of Special Trustee for American Indians announced the proposed extension of a public information collection, “Trust Funds for Tribes and Individual Indians, 25 CFR 115,” OMB Control No. 1035-0004, and that it is seeking comments on its provisions. The notice seeking public comments was published on October 16, 2009 at 74 FR 53292, and stated that comments must be received by November 16, 2009.

Notice of Correction: The comment period is actually open until December 16, 2009. Please use this new date as the time during which comments will be received in accordance with the other provisions of the October 16, 2009 notice.

Dated: October 21, 2009.
Linda S. Thomas,
Information Collection Clearance Officer.

[FR Doc. E9-26137 Filed 10-29-09; 8:45 am]

BILLING CODE 4310-2W-P